DEPARTMENT OF HOMELAND SECURITY

Federal Emergency Management Agency

[Docket ID FEMA-2023-0002; Internal Agency Docket No. FEMA-B-2334]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Colorado:
Adams | City of Northglenn (22-08-0327P). | The Honorable Meredith Leighty, Mayor, City of Northglenn, 11701 Community Center Drive, Northglenn, CO 80233. | City Hall, 11701 Community Center Drive, Northglenn, CO 80233. | https://msc.fema.gov/portal/advanceSearch. | Jul. 28, 2023 | 080257
Adams | City of Thornton (22-08-0327P). | The Honorable Jan Kulmann, Mayor, City of Thornton, 9500 Civic Center Drive, Thornton, CO 80229. | City Hall, 9500 Civic Center Drive, Thornton, CO 80229. | https://msc.fema.gov/portal/advanceSearch. | Jul. 28, 2023 | 080007
Arapahoe | City of Centennial (21-08-1158P). | The Honorable Stephanie Piko, Mayor, City of Centennial, 13133 East Arapahoe Road, Centennial, CO 80112. | Southeast Metro Stormwater Authority, 7437 South Fairplay Street, Centennial, CO 80112. | https://msc.fema.gov/portal/advanceSearch. | Jul. 7, 2023 | 080315
Arapahoe | Unincorporated areas of Arapahoe County (21-08-1158P). | The Honorable Carrie Warren-Gully, Chair, Arapahoe County Board of Commissioners, 5334 South Prince Street, Littleton, CO 80120. | Arapahoe County Public Works and Development Department, 6924 South Lima Street, Centennial, CO 80112. | https://msc.fema.gov/portal/advanceSearch. | Jul. 7, 2023 | 080011
Douglas | Town of Parker (21-08-1158P). | The Honorable Jeff Toborg, Mayor, Town of Parker, 20120 East Main Street, Parker, CO 80138. | Public Works and Engineering Department, 20120 East Main Street Parker, CO 80138. | https://msc.fema.gov/portal/advanceSearch. | Jul. 7, 2023 | 080310
Douglas | Unincorporated areas of Douglas County (21-08-1158P). | The Honorable Abe Laydon, Chair, Douglas County Board of Commissioners, 100 3rd Street, Castle Rock, CO 80104. | Douglas County Public Works Department, Engineering Division, 100 3rd Street, Castle Rock, CO 80104. | https://msc.fema.gov/portal/advanceSearch. | Jul. 7, 2023 | 080049
Douglas | Unincorporated areas of Douglas County (22-08-0219P). | The Honorable Abe Laydon, Chair, Douglas County Board of Commissioners, 100 3rd Street, Castle Rock, CO 80104. | Douglas County Public Works Department, Engineering Division, 100 3rd Street, Castle Rock, CO 80104. | https://msc.fema.gov/portal/advanceSearch. | Jul. 28, 2023 | 080049
El Paso | City of Colorado Springs (22-08-0112P). | The Honorable John Suthers, Mayor, City of Colorado Springs, 30 South Nevada Avenue, Colorado Springs, CO 80903. | City Hall, 30 South Nevada Avenue, Colorado Springs, CO 80903. | https://msc.fema.gov/portal/advanceSearch. | Jun. 12, 2023 | 080060
El Paso | City of Colorado Springs (22-08-0120P). | The Honorable John Suthers, Mayor, City of Colorado Springs, 30 South Nevada Avenue, Colorado Springs, CO 80903. | Pikes Peak Regional Building Department, 2880 International Circle, Colorado Springs, CO 80910. | https://msc.fema.gov/portal/advanceSearch. | Jun. 16, 2023 | 080060
El Paso | City of Manitou Springs (22-08-0120P). | The Honorable John Graham, Mayor, City of Manitou Springs, 606 Manitou Avenue, Manitou Springs, CO 80829. | Pikes Peak Regional Building Department, 2880 International Circle, Colorado Springs, CO 80910. | https://msc.fema.gov/portal/advanceSearch. | Jun. 16, 2023 | 080063
El Paso | Unincorporated areas of El Paso (22-08-0112P). | The Honorable Cami Bremer, Chair, El Paso County Board of Commissioners, 200 South Cascade Avenue, Suite 100, Colorado Springs, CO 80903. | Pikes Peak Regional Building Department, 2880 International Circle, Colorado Springs, CO 80910. | https://msc.fema.gov/portal/advanceSearch. | Jun. 12, 2023 | 080059
El Paso | Unincorporated areas of El Paso (22-08-0120P). | The Honorable Cami Bremer, Chair, El Paso County Board of Commissioners, 200 South Cascade Avenue, Suite 100, Colorado Springs, CO 80903. | Pikes Peak Regional Building Department, 2880 International Circle, Colorado Springs, CO 80910. | https://msc.fema.gov/portal/advanceSearch. | Jun. 16, 2023 | 080059
Jefferson | Unincorporated areas of Jefferson (22-08-0273P). | The Honorable Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Jun. 16, 2023 | 080087
Florida:
Charlotte | Unincorporated areas of Charlotte County (22-04-5841P). | The Honorable Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Jun. 16, 2023 | 120061
Monroe | Village of Islamorada (23-04-0523P). | The Honorable Joseph Buddy Pinder III, Mayor, Village of Islamorada, 86800 Overseas Highway, Islamorada, FL 33036. | Building Department, 86800 Overseas Highway, Islamorada, FL 33036. | https://msc.fema.gov/portal/advanceSearch. | Jun. 15, 2023 | 120424
Nevada: Clark | City of Henderson (22-09-1748P). | Richard Derrick, Manager, City of Henderson, 240 South Water Street, Henderson, NV 89015. | City Hall, 240 South Water Street, Henderson, NV 89015. | https://msc.fema.gov/portal/advanceSearch. | Jul. 21, 2023 | 320005
North Carolina:
Orange | Town of Chapel Hill (22-04-2985P). | The Honorable Pam Hemminger, Mayor, Town of Chapel Hill, 405 Martin Luther King Jr. Boulevard, Chapel Hill, NC 27514. | Town Hall, 405 Martin Luther King Jr. Boulevard, Chapel Hill, NC 27514. | https://msc.fema.gov/portal/advanceSearch. | Jul. 28, 2023 | 370180
Rockingham | City of Eden (22-04-5301P). | The Honorable Neville Hall, Mayor, City of Eden, 308 East Stadium Drive, Eden, NC 27288. | Planning and Inspections Department, 308 East Stadium Drive, Eden, NC 27288. | https://msc.fema.gov/portal/advanceSearch. | Jun. 13, 2023 | 370206
Texas:
Bexar | City of San Antonio (22-06-1471P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Jun. 12, 2023 | 480045
Bexar | City of San Antonio (22-06-1722P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Jul. 3, 2023 | 480045
Bexar | Unincorporated areas of Bexar County (22-06-1722P). | The Honorable Peter Sakai, Bexar County Judge, 101 West Nueva Street, 10th Floor, San Antonio, TX 78205. | Bexar County Public Works Department, 1948 Probandt Street, San Antonio, TX 78205. | https://msc.fema.gov/portal/advanceSearch. | Jul. 3, 2023 | 480035
Collin | Unincorporated areas of Collin County (22-06-2276P). | The Honorable Chris Hill, Collin County Judge, 2300 Bloomdale Road, Suite 4192, McKinney, TX 75071. | Collin County Engineering Department, 4690 Community Avenue, Suite 200, McKinney, TX 75071. | https://msc.fema.gov/portal/advanceSearch. | Jun. 26, 2023 | 480130
Ellis | City of Grand Prairie (22-06-2161P). | Steve Dye, Manager, City of Grand Prairie, P.O. Box 534045, Grand Prairie, TX 75053. | City Hall, 300 West Main Street, Grand Prairie, TX 75050. | https://msc.fema.gov/portal/advanceSearch. | Jul. 3, 2023 | 485472
Ellis | City of Midlothian (22-06-2960P). | The Honorable Richard Reno, Mayor, City of Midlothian, 104 West Avenue E, Midlothian, TX 76065. | Engineering Department, 104 West Avenue E, Midlothian, TX 76065. | https://msc.fema.gov/portal/advanceSearch. | Jul. 14, 2023 | 480045
McLennan | City of Bellmead (21-06-2238P). | The Honorable Travis Gibson, Mayor City of Bellmead, 3015 Bellmead Drive, Bellmead, TX 76705. | Department of Public Works, 3015 Bellmead Drive, Bellmead, TX 76705. | https://msc.fema.gov/portal/advanceSearch. | Jun. 12, 2023 | 480457
McLennan | City of Beverly Hills (21-06-2238P). | Priscilla Trejo-Serrato, Acting Mayor, City of Beverly Hills, 3418 Memorial Drive, Beverly Hills, TX 76711. | City Hall, 3418 Memorial Drive, Beverly Hills, TX 76711. | https://msc.fema.gov/portal/advanceSearch. | Jun. 12, 2023 | 480925
McLennan | City of Hewitt (20-06-3502P). | The Honorable Steve Fortenberry, Mayor, City of Hewitt, 200 Patriot Court, Hewitt, TX 76643. | Community Services Department, 103 Patriot Court, Hewitt, TX 76643. | https://msc.fema.gov/portal/advanceSearch. | Jun. 8, 2023 | 480458
McLennan | City of McGregor (21-06-2238P). | The Honorable James S. Hering, Mayor, City of McGregor, 488 Windsor Road, McGregor, TX 76657. | Community Development Department, 302 South Madison Street, McGregor, TX 76657. | https://msc.fema.gov/portal/advanceSearch. | Jun. 12, 2023 | 480459
McLennan | City of Robinson (20-06-3502P). | The Honorable Bert Echterling, Mayor, City of Robinson, 111 West Lyndale Drive, Robinson, TX 76706. | City Hall, 111 West Lyndale Drive, Robinson, TX 76706. | https://msc.fema.gov/portal/advanceSearch. | Jun. 8, 2023 | 480460
McLennan | City of Waco (20-06-3502P). | The Honorable Dillon Meek, Mayor, City of Waco, P.O. Box 2570, Waco, TX 76702. | Public Works Department, 401 Franklin Avenue, Waco, TX 76701. | https://msc.fema.gov/portal/advanceSearch. | Jun. 8, 2023 | 480461
McLennan | City of Waco (21-06-2238P). | The Honorable Dillon Meek, Mayor, City of Waco, P.O. Box 2570, Waco, TX 76702. | Public Works Department, 401 Franklin Avenue, Waco, TX 76701. | https://msc.fema.gov/portal/advanceSearch. | Jun. 12, 2023 | 480461
McLennan | City of Woodway (20-06-3502P). | Shawn Oubre, Manager, City of Woodway, 922 Estates Drive, Woodway, TX 76712. | Community Services and Development Department, 922 Estates Drive, Woodway, TX 76712. | https://msc.fema.gov/portal/advanceSearch. | Jun. 8, 2023 | 480462
McLennan | Unincorporated areas of McLennan County (20-06-3502P). | The Honorable Scott M. Felton, McLennan County Judge, 501 Washington Avenue, Room 214, Waco, TX 76701. | McLennan County Engineering and Mapping Department, 215 North 5th Street, Suite 130, Waco, TX 76701. | https://msc.fema.gov/portal/advanceSearch. | Jun. 8, 2023 | 480456
McLennan | Unincorporated areas of McLennan County (21-06-2238P). | The Honorable Scott M. Felton, McLennan County Judge, 501 Washington Avenue, Suite 214, Waco, TX 76701. | McLennan County Engineering and Mapping Department, 215 North 5th Street, Suite 130, Waco, TX 76701. | https://msc.fema.gov/portal/advanceSearch. | Jun. 12, 2023 | 480456

[FR Doc. 2023-09785 Filed 5-8-23; 8:45 am]

BILLING CODE 9111-12-P